DEPARTMENT OF ENERGY

Federal Energy Regulatory Commission

Combined Notice of Filings #1

Take notice that the Commission received the following electric corporate filings:

Docket Numbers: EC16-164-000.

Applicants: Georgia Power Company.

Description: Application of Georgia Power Company Pursuant to Section 203 of the Federal Power Act for Authorization to Sell Certain Transmission Facilities and Request for Privileged and Confidential Treatment.

Filed Date: 8/8/16.

Accession Number: 20160808-5207.

Comments Due: 5 p.m. ET 8/29/16.

Docket Numbers: EC16-165-000.

Applicants: Broad River Energy LLC.

Description: Application for Authorization under Section 203 of the Federal Power Act of Broad River Energy LLC.

Filed Date: 8/8/16.

Accession Number: 20160808-5210.

Comments Due: 5 p.m. ET 8/29/16.

Take notice that the Commission received the following electric rate filings:

Docket Numbers: ER16-1211-003.

Applicants: Midcontinent Independent System Operator, Inc.

Description: Compliance filing: 2016-08-09_SA 2906 Indianapolis Power & Light GIA (J401) Compliance to be effective 3/18/2016.

Filed Date: 8/9/16.

Accession Number: 20160809-5173.

Comments Due: 5 p.m. ET 8/30/16.

Docket Numbers: ER16-1990-000.

Applicants: North Star Solar PV LLC.

Description: Supplement to June 23, 2016 North Star Solar PV LLC tariff filing.

Filed Date: 7/26/16.

Accession Number: 20160726-5072.

Comments Due: 5 p.m. ET 8/16/16.

Docket Numbers: ER16-2394-000.

Applicants: Alabama Power Company.

Description: Compliance filing: Compliance Filing for Docket No. ER16-1773 to be effective 8/10/2016.

Filed Date: 8/9/16.

Accession Number: 20160809-5104.

Comments Due: 5 p.m. ET 8/30/16.

Docket Numbers: ER16-2395-000.

Applicants: PJM Interconnection, L.L.C.

Description: Tariff Cancellation: Notice of Cancellation of ISAs, SA Nos. 3473 and 3474, Queue No. W3-066 to be effective 8/1/2016.

Filed Date: 8/9/16.

Accession Number: 20160809-5130.

Comments Due: 5 p.m. ET 8/30/16.

Docket Numbers: ER16-2396-000.

Applicants: New York Independent System Operator, Inc.

Description: § 205(d) Rate Filing: NYISO 205 re: RS 1—Recovery of Shortfalls in Funding Annual Operating Costs to be effective 10/12/2016.

Filed Date: 8/9/16.

Accession Number: 20160809-5137.

Comments Due: 5 p.m. ET 8/30/16.

Docket Numbers: ER16-2397-000.

Applicants: Elevation Energy Group, LLC.

Description: Baseline eTariff Filing: Market-Based Rates Tariff to be effective 8/19/2016.

Filed Date: 8/9/16.

Accession Number: 20160809-5172.

Comments Due: 5 p.m. ET 8/30/16.

Take notice that the Commission received the following public utility holding company filings:

Docket Numbers: PH16-11-000.

Applicants: Apollo Management VI, L.P.

Description: FERC 65B Notice of Material Change in Facts and FERC 65 Notification of Holding Company Status of Apollo Management VI, L.P.

Filed Date: 8/9/16.

Accession Number: 20160809-5110.

Comments Due: 5 p.m. ET 8/30/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 9, 2016.
Nathaniel J. Davis, Sr.,
Deputy Secretary.

[FR Doc. 2016-19364 Filed 8-12-16; 8:45 am]

BILLING CODE 6717-01-P